ENVIRONMENTAL PROTECTION AGENCY

40 CFR Part 300

[FRL-7945-9]

National Oil and Hazardous Substances Pollution Contingency Plan; National Priorities List

AGENCY: Environmental Protection Agency.

ACTION: Direct final deletion of the North Sea Municipal Landfill Superfund Site from the National Priorities List.

SUMMARY: The Environmental Protection Agency (EPA), Region 2, announces the deletion of the North Sea Municipal Landfill Superfund Site (Site), located in Southampton, New York, from the National Priorities List (NPL) and requests public comment on this action. While the Site is located in Southampton, New York, it is erroneously listed on the NPL as being located in the City/County of North Sea. The NPL is Appendix B of the National Oil and Hazardous Substances Pollution Contingency Plan (NCP), 40 CFR part 300, which EPA promulgated pursuant to section 105 of the Comprehensive Environmental Response, Compensation, and Liability Act (CERCLA) of 1980, as amended. This Direct Final Notice of Deletion is being published by EPA with the concurrence of the State of New York, through the New York State Department of Environmental Conservation (NYSDEC). EPA and NYSDEC have determined that responsible parties or other persons have implemented all appropriate response actions required to public health or the environment.

DATES: This direct final deletion will be effective September 27, 2005 unless EPA receives significant adverse comments by August 29, 2005. If significant adverse comments are received, EPA will publish a timely withdrawal of the direct final deletion in the Federal Register, informing the public that the deletion will not take effect.

ADDRESSES: Written comments should be mailed to: Caroline Kwan, Remedial Project Manager, Emergency and Remedial Response Division, U.S. Environmental Protection Agency, Region 2, 290 Broadway, 20th floor, New York, NY 10007-1866.

Information Repositories: Comprehensive information about the Site is available for viewing and copying at the Site information repositories located at: U.S. Environmental Protection Agency, Region 2, 290 Broadway, Superfund Record Center, Room 1828, New York, NY 10007-1866. Hours: Monday to Friday from 9 a.m. to 5 p.m., Telephone No. (212) 637-4308, Southampton College, Reference Department, 239 Montauk Highway, Southampton, New York 11968-4100, Hours: Monday to Friday till August 12, 2005 from 9 a.m. to 6 p.m., Closed from August 13 till September 5, reopening on September 6, Monday to Thursday from 10 a.m. to 9 p.m., Saturday: 12 p.m. to 5 p.m., Telephone No. 631-287-8379, The Rogers Memorial Library (Reference Department), 91 Coopers Farms Road, Southampton, New York 11968-4002, Hours: Monday to Thursday from 10 a.m. to 9 p.m., Friday: 10 a.m. to 7 p.m., Saturday: 10 a.m. to 5 p.m. , Sunday: 1 p.m. to 5 p.m., Telephone No. (632) 283-0774.

FOR FURTHER INFORMATION CONTACT: Ms. Caroline Kwan, Remedial Project Manager, Emergency and Remedial Response Division, U.S. Environmental Protection Agency, Region 2, 290 Broadway, 20th floor, New York, NY 10007-1866, (212) 637-4275; Fax Number (212) 637-4284; email address: kwan.caroline@epa.gov.

SUPPLEMENTARY INFORMATION:

Table of Contents

I. Introduction

II. NPL Deletion Criteria

III. Deletion Procedures

IV. Basis for Site Deletion

V. Deletion Action

I. Introduction

EPA Region 2 announces the deletion of the North Sea Municipal Landfill Superfund Site (Site) from the National Priorities List (NPL). The EPA maintains the NPL as the list of those sites that appear to present a significant risk to public health or the environment. Sites on the NPL can have remedial actions financed by the Hazardous Substance Superfund. As described in § 300.425(e)(3) of the NCP, a site deleted from the NPL remains eligible for remedial actions if conditions at the site warrant such action.

EPA considers this action to be noncontroversial and routine, and therefore, EPA is taking it without prior publication of a Notice of Intent to Delete. This action will be effective September 27, 2005 unless EPA receives significant adverse comments by August 29, 2005 on this action or on the parallel Notice of Intent to Delete published in the Notice section of today's Federal Register. If significant adverse comments are received within the 30-day public comment period of this action or the Notice of Intent to Delete, EPA will publish a timely withdrawal of this Direct Final Deletion before the effective date of the deletion and the deletion will not take effect. EPA will, if appropriate, prepare a response to comments and continue with the deletion process on the basis of the Notice Intent to Delete and the comments already received. In such a case, there will be no additional opportunity to comment.

Section II explains the criteria for deleting sites from the NPL. Section III discusses procedures that EPA is using for this action. Section IV discusses the Site and demonstrates how it meets the deletion criteria.

II. NPL Deletion Criteria

Section 300.425(e) of the NCP provides that Sites may be deleted from the NPL where no further response is appropriate. In accordance with § 300.425(e)(1), EPA shall consult with the State to determine whether any of the following criteria have been met:

i. Responsible parties or other parties have implemented all appropriate response actions required; or,

ii. All appropriate Fund-financed responses under CERCLA have been implemented, and no further action by responsible parties is appropriate; or

iii. The remedial investigation has shown that the release poses no significant threat to public health or the environment and, therefore, implementing remedial measures is not appropriate.

In addition, the State shall concur with the deletion, as required by § 300.425(e)(2), and the public shall be informed, as required by § 300.425(e)(4). A site which is deleted from the NPL does remain eligible for remedial actions should future conditions warrant such action, as set forth in § 300.425(e)(3). Even if a site is deleted from the NPL, where hazardous substances, pollutants, or contaminants remain at the deleted site above levels that allow for unlimited use and unrestricted exposure, CERCLA section 121(c), 42 U.S.C. 9621(c) requires that a subsequent review of the site be conducted at least every five years after the initiation of the remedial action at the deleted site to ensure that the action remains protective of public health and the environment. If new information becomes available which indicates a need for further action, EPA may initiate remedial actions. Whenever there is a significant release from a site deleted from the NPL, the deleted site may be restored to the NPL without application of the hazard ranking system.

III. Deletion Procedures

The following procedures apply to deletion of the Site.

(1) The Site was listed on the NPL in June 1986. The North Sea Municipal Landfill Property (Landfill Property) includes several former disposal areas, including landfill cells and former septic sludge lagoons. The Superfund Site is composed of what was identified as Cell No.1, the decommissioned septic sludge lagoons, groundwater in the vicinity of the Landfill Property, and the nearby Fish Cove. The other two cells, Cells No. 2 and 3, are closed and monitored by the New York State Department of Environmental Conservation (NYSDEC), and they are not included within the NPL Site.

(2) On March 31, 1987, The Town of Southampton (Town) entered into Administrative Consent Order pursuant to CERCLA with EPA. The Order required the Town to conduct a Remedial Investigation and Feasibility Study (RI/FS).

(3) On September 29, 1989 , EPA issued a Record of Decision for Operable Unit One (OU 1 ROD) selecting landfill closure for Cell No. 1 and confirmatory sampling of the decommissioned septic sludge lagoons.

(4) EPA and the Town entered into a Consent Decree in February 1991 regarding the implementation of the remedy selected in the OU 1 ROD.

(5) On September 28, 1992, EPA issued a second Record of Decision at the Site, for Operable Unit 2 (OU 2 ROD), which set forth that no further action was required concerning groundwater emanating from the Landfill Property and extending to Fish Cove.

(6) Construction was completed in September 1994 for the OU 1 source control remedy.

(7) A Preliminary Close Out Report documenting the completion of the implementation of the remedy selected in the OU 1 ROD was issued by EPA on September 21, 1994.

(8) The deed, access, and well restrictions required to prevent exposure to Site contaminants are in place. The Town, the owner of the Landfill Property, has placed deed restrictions on the future use of the Landfill Property in the property's deed. Fencing to restrict access was determined to be unnecessary because of a natural border of woodlands around the Landfill Property, but a fence was installed at the perimeter of the Cell No. 1 recharge basin. Lastly, Suffolk County Department of Health helps enforce the ban on private wells in the vicinity of the Landfill Property groundwater plume through implementing its Private Water Systems standards. All existing homes have been connected to the public water service. All new construction requires a permit from the Health Department to install a well. Such permit will not be issued as this would be in violation of the ban.

(9) The First Five-Year Review for the Site was completed by EPA on September 1998, in which EPA concluded that human health and the environment are being protected by the remedial action implemented at the Site.

(10) A Second Five-Year Review was completed on September 30, 2003, in which EPA again concluded that human health and the environment are being protected by the remedial action implemented at the Site.

(11) The Town has been conducting quarterly groundwater monitoring since December 1998. Monthly gas monitoring has been performed since January 2002.

(12) Benthic survey investigations were conducted in September 2001 and July 2004 by the Town.

(13) Routine operation and maintenance of the Cell No. 1 capping system is being performed by the Town.

(14) EPA consulted with the NYSDEC on the deletion of this Site from the NPL, and NYSDEC has concurred with the deletion.

(14) If no significant adverse comments are received related to this Direct Final Notice of Deletion, the Site will be deleted. If significant adverse comments are received within the 30-day public comment period established for this Direct Final Action or the Notice of Intent to Delete published in today's Federal Register, EPA will publish a timely notice of withdrawal of this Direct Final Deletion before its effective date. EPA will prepare, if appropriate, a response to comments and continue with the deletion process on the basis of the notice of Intent to Delete and the comments already received.

(15) EPA has placed copies of documents supporting the deletion in the Site information repositories identified above.

Deletion of a site from the NPL does not itself create, alter, or revoke any individual's rights or obligations. Deletion of a site from the NPL does not in any way alter EPA's right to take enforcement actions, as appropriate. The NPL is the list of uncontrolled hazardous substance releases in the United States that are priorities for long-term remedial evaluation and response.

IV. Basis for Site Deletion

The following summary provides a brief description of the Site and the actions taken that provide the basis for recommending deletion of the Site from the NPL.

The 131-acre Landfill Property is located, is owned by the Town. Starting in 1963, the Landfill Property was used for the disposal of municipal solid waste, refuse, and septic system waste. The Town accepted waste from residential, industrial, and commercial sources. Significant features of the Landfill Property include Cell No. 1, Cell No. 2, Cell No. 3 and the septic sludge lagoons. All three landfill cells were capped and closed in accordance with New York State landfill closure regulations in place at the time. The septic lagoons, located at the south end of the property, were excavated and refilled to grade with sandy loam in 1986. The Site as addressed under the Federal Superfund Program consists of Cell No. 1, the decommissioned septic sludge lagoons, groundwater in the vicinity of the Landfill Property, and the nearby Fish Cove. Cells No. 2 and 3 are closed and monitored by NYSDEC, and they are not part of the NPL Site.

The Site is located in the Township of Southampton, even though it is erroneously listed on the NPL as being located in North Sea. The property is at the intersection of Majors Path and Old Fish Cove Road. The nearest surface water is Fish Cove, which is located approximately 1500 feet northwest of the Landfill Property. Groundwater in this area ultimately discharges to Fish Cove, which is an arm of Little Peconic Bay. The area between Fish Cove and the Landfill Property is moderately populated.

In the late 1960's, a series of 14 scavenger lagoons, approximately 50 feet long, 10 feet deep, 25 feet wide and 50 feet above the water table were constructed at the southern portion of the Landfill Property. These septic sludge lagoons accepted septic system wastes from both commercial and residential sources. Sludge was allowed to drain and dry, and it was subsequently disposed of in Cell No. 1. It is estimated that 11 million gallons of septic wastes were disposed in these lagoons. The lagoons were decommissioned in 1985 and most of their solid and liquid content were removed. After this removal, an additional two feet of soil was excavated. The septic sludge lagoons were refilled to grade with sandy loam.

A groundwater monitoring program, initiated by the Town in 1979, revealed a plume of contamination migrating from Cell No. 1 to Fish Cove. The plume contained lead, manganese and cadmium. A second plume was discovered originating from the septic sludge lagoons. The presence of nitrate/nitrite in this plume indicated the presence of septic wastes. In addition to the typical landfill leachate parameters and heavy metals noted, organics (i.e., dichloroethane, tetrachloroethene and trichloroethene) were also detected in the groundwater at the Site.

Most of the homes near the Landfill Property had obtained their drinking water from wells in the highly permeable Upper Glacial aquifer. The detection of contaminated groundwater migrating northwest from the Landfill Property resulted in the closure of several private domestic wells. Public water supplies were extended to serve residents in the affected areas. Based on the above, Cell No.1 and the septic sludge lagoons were investigated and placed on the Superfund NPL in 1986. As a result of the EPA's initial efforts to place the Landfill on the NPL, Cell No. 1 was closed by the Town in 1985. Cell closure consisted of the following activities; capping the top, flat portion of the Cell No. 1 (approximately eight acres in area) with a 20 mil poly-vinyl chloride (PVC) membrane to minimize infiltration, installation of a silty sand protective layer (approximately two feet thick) above the membrane, and placement of a topsoil cover to support vegetation. The Town also installed a storm water diversion/collection system to improve area drainage. The system, installed along the haul road, included manholes (which were utilized for inlet collection), interconnecting piping and a recharge basin to which all runoff was routed.

EPA and the Town entered into an Administrative Order on Consent in March 1987. Under the Order, the Town agreed to conduct an RI/FS. The RI/FS was initiated in August 1987. The OU 1 RI/FS findings indicated that leachate constituent concentrations were not decreasing with time. In 1985, prior to the listing of the Site on the NPL, a cap had been constructed on Cell No. 1 on the plateau area only, but it was not adequate to eliminate leachate generation. The OU 1 ROD was signed in September 1989 which addressed, among other things, any deficiencies in that capping system.

The OU 1 ROD selected remedy consisted of the following:

(i) Covering Cell No. 1 with a low permeability cap while undertaking action consistent with New York State (Part 360) sanitary landfill closure requirements.

(ii) No action at the former septic sludge lagoons other than confirmatory sampling.

(iii) Installation of a six-foot high chain link fence around the Site to restrict access.

(iv) Deed restrictions on future use of the Landfill Property.

(v) Long-term operation and maintenance to provide inspection and repairs to the Cell No. 1 cap system.

(vi) Long-term air and water quality monitoring of both the former septic sludge lagoons and Cell No. 1.

EPA negotiated a Consent Decree with the Town in which the Town agreed to implement the remedy set forth in the OU 1 ROD. The Consent Decree was entered with the United States District Court for the Eastern District of New York in August 1990. The capping of Cell No. 1 utilized the existing 20 mil PVC liner (previously installed in 1985) located on the plateau area of the Cell and involved minor regrading and capping of the side slopes with a geomembrane. Approximately 0.5 acres on the east side slope required capping with a concrete revetment because the slope grade was steeper than 33 percent. The structural regrading of Cell No. 1 included demolition of two concrete drainage manholes and regrading of the area to promote overland flow of storm water. Because access to the 130-acre Landfill Property is limited as a result of wooded area which surrounds it, EPA allowed the perimeter fence to be eliminated from the design. Instead, the fence was installed only at the perimeter of the recharge basin. EPA and NYSDEC approved the final remedial design in September 1992.

The Town conducted confirmatory sludge and soil sampling of the septic sludge lagoons during January 1992. All data collected were validated using full Contract Laboratory Program analytical and quality assurance/quality control procedures. The sludge/soil sampling results confirmed that the “no action” alternative for the septic sludge lagoon remediation was appropriate. The final report was approved in September 1992. EPA and NYSDEC conducted a final inspection on September 21, 1994.

The Town, which is the owner of the Landfill Property, has placed deed restrictions on the future use of the Landfill Property in the property's deed. Lastly, Suffolk County Department of Health enforces the ban on private wells in the vicinity of the Landfill Property groundwater plume through implementing its Private Water Systems standards. All existing homes have been connected to the public water service. All new construction requires a permit from the Health Department to install a well. Such permit will not be issued as this would be in violation of the ban.

EPA approved a Post-Closure Monitoring and Maintenance Operations (O&M) Manual in December 2001. The O&M Manual provides for a long-term monitoring program for the cover system, the drainage system, and the groundwater and the gas-monitoring systems. The O&M Manual requires quarterly groundwater monitoring at selected wells. Quarterly groundwater sampling has been conducted by the Town since December 1998. EPA issued a Remedial Action report on September 28, 1995. O&M monitoring results indicated that the remedial system implementing the remedy selected in the OU 1 ROD as designed and constructed was performing satisfactorily.

For OU 2, the Town installed additional groundwater monitoring wells and resampled existing wells at the Site. NYSDEC collected samples of hard clams from Fish Cove and analyzed them for priority pollutant metals. The results indicated that the clams did not present a health risks to consumers. Based on the OU 2 risk assessment, EPA determined that the groundwater contamination did not pose a threat to human health or the environment. In September 1992, EPA selected a “no action” remedy for OU 2.

Hazardous substances remain at the Site above levels that would allow for unlimited use with unrestricted exposure. Pursuant to Section 121(c) of CERCLA, EPA reviews site remedies where such hazardous substances, pollutants, or contaminants remain no less often than every five years after the initiation of a remedy at a site. EPA, Region 2, has conducted such Five-Year Reviews of the Site in September 1998 and in September 2003. Both Five-Year Reviews led EPA to conclude that human health and the environment are being protected by the remedial action implemented at the Site. The next Five-Year Review is scheduled to be completed before September 2008.

Public participation activities for this Site have been satisfied as required in CERCLA § 113(k) and Section 117. As part of the remedy selection process, the public was invited to comment on EPA's proposed remedies. All other documents and information which EPA relied on or considered in recommending this deletion are available for the public to review at the information repositories identified above.

One of the three criteria for site deletion is when “responsible parties or other persons have implemented all appropriate response actions required” (40 CFR 300.425(e)(1)(I)). EPA, with the concurrence of the State of New York through NYSDEC, have determined that all required and appropriate response actions have been implemented. Therefore, EPA is proposing deletion of this Site from the NPL.

V. Deletion Action

The EPA with concurrence of the State of New York, has determined that all appropriate responses under CERCLA have been completed, and that no further response actions, under CERCLA, other than O&M and five-year reviews, are necessary. Therefore, EPA is deleting the Site from the NPL. Because EPA considers this action to be noncontroversial and routine, EPA is taking it without prior publication. This action will be effective September 27, 2005 unless EPA receives adverse comments by August 29, 2005. If adverse comments are received within the 30-day public comment period, EPA will publish a timely withdrawal of this direct final notice of deletion before the effective date of the deletion and it will not take effect and, EPA will prepare a response to comments and continue with the deletion process on the basis of the notice of intent to delete and the comments already received. There will be no additional opportunity to comment.

List of Subjects in 40 CFR Part 300

Environmental protection, Air pollution control, Chemicals, Hazardous waste, Hazardous substances, Intergovernmental relations, Natural resources, Oil pollution, Penalties, Reporting and recordkeeping requirements, Superfund, Water pollution control, Water supply.

Dated: July 22, 2005.
George Pavlou,
Acting Regional Administrator, USEPA, Region 2.

40 CFR part 300 is amended as follows:

PART 300—[AMENDED]

1. The authority citation for part 300 continues to read as follows:

Authority: 33 U.S.C. 1321(c)(2); 42 U.S.C. 9601-9657; E.O. 12777, 56 FR 54757, 3 CFR 1991 Comp., p. 351; and E.O. 12580, 52 FR 2923, 3 CFR 1987 Comp., p. 193.

Appendix B to Part 300 (Amended)

2. Table 1 of Appendix B to part 300 is amended under New York (NY) by removing the site name “North Sea Municipal Landfill” and the corresponding City/County designation “North Sea.”.

[FR Doc. 05-15044 Filed 7-28-05; 8:45 am]

BILLING CODE 6560-50-P